DEPARTMENT OF COMMERCE

National Oceanic and Atmospheric Administration

50 CFR Part 679

[Docket No. 010112013-1013-01; I.D. 080301A]

Fisheries of the Exclusive Economic Zone Off Alaska; Shallow-water Species Fishery by Vessels Using Trawl Gear in the Gulf of Alaska; Correction

AGENCY: National Marine Fisheries Service (NMFS), National Oceanic and Atmospheric Administration (NOAA), Commerce.

ACTION: Closure; correction.

SUMMARY: This document corrects the seasonal apportionment and effective date of the closure for the shallow-water species fishery by vessels using trawl gear in the Gulf of Alaska (GOA), which was published in the Federal Register on August 8, 2001. This action is necessary because the fourth seasonal apportionment was inadvertently closed instead of the third seasonal apportionment of the 2001 Pacific halibut bycatch allowance specified for the trawl shallow-water species fishery in the GOA.

FOR FURTHER INFORMATION CONTACT: Mary Furuness, 907-586-7228.

SUPPLEMENTARY INFORMATION:

Correction

In the document closing directed fishing for the shallow-water species with trawl gear, except for vessels fishing for pollock using pelagic trawl gear in those portions of the GOA open to directed fishing for trawl gear, published at 66 FR 41455, August 8, 2001, FR Doc. 01-19894, the following corrections are made:

1. On Page 41455, under the SUMMARY heading, line 9, “fourth” is corrected to read “third”.

2. On page 41455, under the DATES heading, line 3, “October 1, 2001” is corrected to read “September 1, 2001.”

3. On page 41455, under SUPPLEMENTARY INFORMATION, the following corrections are made:

a. In column 2, paragraph 2 , lines 9 through 13 are corrected to read “FR 17087, March 29, 2001, and 66 FR 37167, July 17, 2001) for the third season, the period July 1, 2001, through September 1, 2001, as 200 metric tons.”

b. In column 3, line 1, “fourth” is corrected to read “third”.

4. On page 41455, under “Classification”, line 7, “fourth” is corrected to read “third” and in line 10 from the bottom of that paragraph, “fourth” is corrected to read “third”.

Authority: 16 U.S.C. 1801 et seq.

Dated: August 10, 2001.
Bruce C. Morehead,
Acting Director, Office of Sustainable Fisheries, National Marine Fisheries Service.

[FR Doc. 01-20650 Filed 8-15-01; 8:45 am]

BILLING CODE 3510-22-S